ENVIRONMENTAL PROTECTION AGENCY

[FRL-7047-6]

Community Based In-Home Asthma Environmental Education and Management

AGENCY: Environmental Protection Agency.

ACTION: Request for grant proposals.

SUMMARY: Request for Proposals for Community Based In-Home Asthma Environmental Education and Management. This is an announcement of the availability of FY 2001 grant funds for the Environmental Protection Agency's (EPA) Indoor Environments Division/Office of Radiation and Indoor Air. Section 103(a)(1) of the Clean Air Act authorizes the Administrator to conduct and promote the coordination and acceleration of research, investigations, experiments, demonstrations, surveys and studies relating to the causes, effects (including health and welfare effects), extent, prevention, and control of air pollution by [(b)(3)] making grants to air pollution control agencies, to other public or nonprofit private agencies, institutions, and organizations, and to individuals, for purposes stated in 103(a)(1). The intended use of these funds is to support pilot studies of asthma education, including asthma management and indoor asthma trigger identification/mitigation, in existing community-based in-home environmental management or education programs. EPA is awarding these grants to support the recipients to conduct pilot studies of in-home asthma education and assess the effectiveness of their in-home approaches to educating children with asthma, their parents and/or primary care givers, and other people with asthma, including how to identify the indoor triggers to which the asthmatic(s) in the household may be sensitive, and how to mitigate them. EPA plans to award two grants of up to $150,000.00 each, to two qualified organizations, however the final number of awards and award amounts may vary depending on proposal quality and resource availability.

DATES: Letter of Intent Deadline: Postmarked no later than September 18, 2001. Pre-application Assistance Conference Call date is: September 25, 2001, 12 noon until 2pm Eastern Daylight Time. Application Deadline: Postmarked no later than October 23, 2001.

ADDRESSES: Send Letter of Intent and Applications to the attention of John Guevin, Environmental Protection Agency, Ariel Rios Building (6609J), 1200 Pennsylvania Avenue, NW., Washington, DC 20460.

FOR FURTHER INFORMATION CONTACT: John Guevin (202) 564-9370.

SUPPLEMENTARY INFORMATION: The focus for funding is to: (a) Reduce the impact of in-home environmental asthma triggers on children and adults with asthma; (b) strengthen the capacity of individual households to control in-home environmental asthma triggers; and (c) assess the effectiveness and sustainability of strategies for in-home environmental asthma trigger management and education within communities.

Completed applications, including work plans and detailed budgets, are due to the Indoor Environments Division no later than October 23, 2001. If you intend to apply, you must send a letter of intent postmarked no later than September 18, 2001 to Attention: John Guevin, U.S. Environmental Protection Agency, Ariel Rios Building (6609J), 1200 Pennsylvania Avenue, NW., Washington, DC 20460, or an e-mail to guevin.john@epa.gov by no later than 3 pm (EDT) on September 18, 2001, indicating the name of your organization, the name and phone number of a contact person in the organization, and if you would like to participate in the pre-award technical assistance conference call on September 25, 2001.

Note: The target population of focus is children with asthma and their parents and/or care-givers. Adults with asthma may be included in the in-home asthma education program; however, children with asthma should be given preference. Community-based in-home asthma environmental education and management program(s) may occur inside or outside the home through clinical visits or community forums.

Eligibility Criteria

To be eligible for funding, an applicant must:

(1) Meet the standards for eligibility as identified in Section 103 (b)(3) of the Clean Air Act (page 1, paragraph 1);

(2) Demonstrate the ability to implement and track the results of an asthma education program which includes: in-home identification and assessment of potential indoor environmental asthma triggers for diagnosed asthmatics; and direct one-on-one education on asthma, asthma management, and mitigation of indoor environmental triggers in the home to which children and other household members with asthma may be sensitive;

(3) Request no more than $150,000.00 to accomplish pilot project objectives. Demonstrate that the project goals and objectives can be achieved given the amount of the grant;

(4) Properly complete and submit standard form SF-424 and a proposal no greater than nine pages (including supplemental biographical information) in length (in no smaller than 12 point type) by the established due date;

(5) Commit to complete the proposed pilot project activities within 18-24 months of grant award.

Ranking Criteria

Applications will be ranked on the basis of the criteria listed below. Ranking for each criterion is based on a scale of 1 (does not meet the requirement) to 5 (exceeds the requirement).

(1) Applicant is currently performing community-based environmental health or public health education and demonstrates that it is achieving public health outcomes and results. (1-5 points)

(2) Applicant demonstrates the ability to implement an asthma education program (face-to-face instruction which can occur inside or outside the home, e.g., in a clinic or other community setting) which integrates indoor environmental trigger identification and mitigation approaches in the home into a comprehensive asthma management education program (i.e., medical management and the socio-economics of the target population are addressed). (1-5 points)

(3) Applicant proposal has goals and objectives which are clearly stated and will reduce the incidence and severity of asthma episodes in the target population, and create behavioral changes in the home as a result of its educational outreach activities. The grant budget is appropriate to accomplish the scope of the work (i.e., number of children with asthma, their parents and/or care-givers that will be reached). (1-5 points)

(4) Applicant proposed work targets low-income, urban and/or disproportionately impacted (with respect to asthma severity or incidence) populations, with an emphasis on children. (1-5 points)

(5) Applicant demonstrates the effectiveness of education strategies to varied populations and geographic locations in the United States, and contributes to an improved understanding of how to conduct asthma education programs that address asthma triggers in homes. Education materials and assessment tools selected for the pilot project reflect current standards for conducting environmental health or public health education and outreach activities, particularly with respect to motivating behavioral changes in low-literacy, low-income, and disproportionately impacted populations. (1-5 points)

(6) Applicant outlines educational materials and mitigation methods for environmental (secondhand) tobacco smoke, house dust mites, cockroaches, molds, and animal dander which are compatible with the guidance contained in EPA's asthma brochure, “Clear Your Home Of Asthma Triggers: Your Children Will Breathe Easier” (http://www.epa.gov/iaq/pubs/asthma.html) and the findings and recommendations contained in the January, 2000 National Academy of Sciences report on asthma, “Clearing the Air: Asthma and Indoor Air Exposures” (http://books.nap.edu/catalog/9610.html). (1-5 points)

(7) Applicant staff have the knowledge and experience to successfully perform the proposed work. (1-5 points)

(8) Applicant describes methods that will be used to ensure sustained participant involvement throughout the life of the project. Applicant adequately describes mechanisms for obtaining feedback about program effectiveness from participants after the in-home education assessment visits. (1-5 points)

(9) Applicant describes a clear in-home asthma education and assessment of asthma triggers evaluation component, e.g., on-site, in-home visits or patient/family self-reporting, which is practical, reasonable, and sound. Assessment methods address established indoor environmental triggers of asthma including: environmental (secondhand) tobacco smoke, house dust mites, cockroaches, molds, and animal dander. Whichever assessment method is used, applicant must, at a minimum, report the number of homes visited, the number of children and adults with asthma educated, the number of homes in which indoor environmental triggers have been identified, and the number of households in which mitigation actions have been taken. Applicant agrees to provide quarterly performance reports to EPA which shall include, at a minimum, information about the above. (1-5 points)

(10) Applicant addresses the potential beyond the life of the EPA grant and the ability of this project to be replicated in other areas and with other populations. (1-5 points)

Application Process

Applicants must complete standard form 424 (http://www.epa.gov/ogd/how_to_apply.htm) and submit a work plan no greater than nine pages in length, including any supplementary biographical information (in 12 point type). The work plan must include: (1) A aummary of specific objectives, expected outcomes, and deliverables; and (2) a discussion of the budget and how the budget relates to the objectives, outcomes, and deliverables in the work plan. The project work plan submitted with the completed application SF-424 should conform to the following outline:

(1) Title.

(2) Description of the applicant organization, experience in community-based environmental or public health education (especially with children and adults with asthma), results of existing in-home education efforts and/or existing indoor air quality/asthma activities, and the organization's infrastructure as it relates to its ability to do in-home asthma assessments and/or education programs.

(3) Project purpose.

(4) Description of basic structure of the in-home asthma education and assessment pilot project proposed, how many families will be reached, curricula and assessment tools to be used, and resource lists including references. Describe why the curricula and protocols were selected or created; what other materials you may have considered (including reasons for not selecting them); and, if possible, a discussion of how the asthma education approaches you wish to demonstrate compare or contrast to other known approaches.

(5) Project Period—beginning and ending dates. Budget. Indicate funds used for salaries, materials, equipment, contracted activities, travel, overhead, and other pertinent information.

(6) Description of target audiences, community, and any special asthma-related demographics of areas targeted for this work.

(7) Description of staffing and funding resources needed to implement proposed work plans, including number of staff and qualifications.

(8) Description of mechanisms for question resolution and follow-up with asthmatics and their families and/or primary care givers following in-home visit(s). Reasons for selecting or creating these mechanisms and, if possible, a discussion of how the selected mechanisms compare to other available mechanisms.

(9) Description of any types of follow-up materials or training that may be given to the households such as community resource lists, household repair and maintenance training, lessons on how to obtain services in the community, etc.

(10) Definition of success for the project and how success will be measured. Describe mechanisms for tracking program outputs (e.g., how many households were educated, how many homes were assessed, in how many homes actions were taken), and evaluating program outcomes (i.e., the effectiveness of the education and mitigation methods, the level of increased awareness).

(11) Description of experience implementing evaluation and tracking procedures and managing grants (e.g., submitting reports, budgets, etc.).

(12) Schedule—indicate tasks, quarterly report submission and final report submission dates.

(13) Identification of other localities, regions, or states that might benefit from the lessons you expect to learn as a result of your pilot project.

If you would like to apply for assistance under the Community Based In-Home Asthma Environmental Education and Management program, application materials are available at the web addresses listed below or by calling EPA's Indoor Environments Division at (202) 564-9370. The application kit contains the following information:

—Application for Federal Assistance

—Instructions for completing the application

—Assurances/certifications

An original application and two copies must be received at the following address no later than close of business on Tuesday, October 23, 2001:

Mailing Address:Attn: John Guevin, In-Home Education Program, U.S. Environmental Protection Agency, Ariel Rios Building (6609J), 1200 Pennsylvania Avenue, NW., Washington, DC 20460.

Courier Address:Attn: John Guevin, U.S. Environmental Protection Agency, In-Home Education Program (6th floor), 501 3rd Street, NW., Washington, DC 20001.

A pre-application assistance conference call has been scheduled for Tuesday, September 25, 2001 from 12 noon until 2 p.m. Eastern Daylight Time to help prospective applicants. All applicants must submit a letter of intent by September 18, 2001. Those indicating a desire to participate in the pre-award assistance conference call will be mailed instructions for participating in the conference call.

In addition, prospective applicants may obtain a copy of the Code of Federal Regulations (CFR) Title 40, Part 30 (and for State and local agencies, also see Part 31). This portion of the CFR includes regulations applicable to your assistance agreement. Copies of the CFR are available at your local U.S. Government Bookstore, the U.S. Government Printing Office or on the internet at http://www.epa.gov/ogd/how_to_apply.htm. Once at this site, select “Administrative Regulations and Policies/Subchapter B-Grants and Other Federal Assistance” and select Part 30 or Part 31.

Selected projects will be announced on or around December 30, 2001. If you have any questions regarding this grant notice, please contact John Guevin (202) 564-9370.

Authority: 42 U.S.C. 7401-7626; Pub. L. 159, 69 Stat. 322

Answers to Questions You May Have

Question 1: The RFP states that grant awards will be for no more than $150,000. Is this per year for multiple years, or a one time grant?

Answer: This is a one time grant of up to $150,000.00.

Question 2: How many awards are anticipated and to how many organizations?

Answer: We anticipate awarding a total of two grants, i.e., one grant to each of two qualified organizations.

Question 3: If my organization has indirect costs, are they to be included within the $150,000?

Answer: Yes, all indirect costs are included within the $150,000.

Question 4: What is an indirect cost, and what if we don't have an indirect cost rate established?

Answer: Indirect costs are explained in the grant application forms, SF-424, found at this website (www.epa.gov/iaq/asthma). If your organization has an indirect cost rate established, include it where appropriate in your budget submittal. If your organization does not have an established indirect cost rate, you may submit your proposal with an estimated indirect cost rate. If this is the case, please state in your transmittal letter that you do not currently have an established rate, but that you will establish one by submitting the proper forms within 30 days of award. Include the name, phone number and fax number for your financial officer, and our Grants Administration Division will work with that individual to provide the necessary information.

Question 5: If we need help figuring out how to fill in the budget forms, is there someplace we can go to understand cost principles for a Federal grant?

Answer: Yes, go to www.epa.gov/ogd/how_to_apply/htm.

Question 6: Is there a cost-share requirement? Will proposals that include cost-sharing be reviewed more favorably?

Answer: No, cost-sharing is not required, and including a cost-share will not cause your proposal to be viewed more favorably.

Question 7: Where can I find the standard form 424 mentioned in eligibility criterion number (4), and can we submit a proposal greater than nine pages in length?

Answer: The EPA application for grant assistance, SF-424 can be found on our website www.epa.gov/iaq/asthma along with all of the required forms.

The work plan narrative must be no more than nine pages in length, including a detailed, itemized budget, and any supplementary biographical information you wish to provide. In particular, attention should be paid to the qualifications and experience of key personnel. There is no requirement that the information be double-spaced, only that it be no smaller than 12 point type.

Question 8: On SF-424, block 10, is a space for “Catalog of Federal Domestic Assistance Number.” What number should we use?

Answer: The correct number is 66-606.

Question 9: On SF-424, in block 16, it asks “Is application subject to review by State Executive Order 12372 process?'

Answer: To determine whether your state requires review prior to receiving a Federal grant award, and a point of contact if it does, check the Office of Management and Budget website, www.whitehouse.gov/OMB/grants/spoc.html.

Question 10: What start date should we use on the form?

Answer: Use January 1, 2002, as the start date, although the actual award date may vary. No pre-award costs will be approved for this pilot project, so please do not incur any costs unless and until you receive an assistance agreement from EPA.

Question 11: Are we required to include a quality assurance narrative statement?

Answer: If you are making environmental measurements or collecting data, your proposal should include a statement about the quality assurance practices you will put in place to ensure the accuracy of your data. If there is a need for additional information, our Grants Administration Division will contact you prior to award.

Question 12: What rules will govern our grant?

Answer: Familiarize yourself with Code of Regulations 40 part 30 if you are a non-profit or higher education group, and in addition, with Part 31 if you are a State or local government entity. These rules can be found at www.epa.gov/epacfr40/chapt-l.info/chi.toc.htm. At that location, look under SUBCHAPTER B—GRANTS AND OTHER FEDERAL ASSISTANCE (parts 30-49).” Please note that no cost share is required.

Question 13: Is the due date of October 23, 2001 flexible?

Answer: No. Mailed applications must bear an envelope postmark (or carrier such as FedEx, UPS, or DHL equivalent) of October 23, 2001 or be hand-delivered by messenger not later than close of business (5pm EDT) Tuesday, October 23, 2001 as directed in the Request for Proposals. Please note that our mailing address and direct delivery address are different.

Question 14: Can I include letters of recommendation, past project reports, etc. along with my proposal?

Answer: All elements of your submission should address the eligibility and ranking criteria outlined in the Request for Proposals. Your submission must be no more than nine pages in length (in no smaller than 12 point type), including the work plan, detailed budget and biographical information.

Question 15: Can grant funds be used to mitigate homes?

Answer: The Clean Air Act authority under which this project is being conducted provides for studies and demonstrations, not implementation. Mitigation is acceptable under this grant only to the extent that it is done as a way to teach occupants how to clean-up and/or prevent indoor environmental triggers of asthma in their home.

Question 16: Will our grant proposals be considered confidential?

Answer: While grant proposals are generally handled in a confidential manner, they may be disclosed under the Freedom of Information Act unless they are marked “restricted” or “confidential.” If there is any information you wish to ensure remains confidential, please be sure to stamp “confidential” or “restricted” on each page on which such information occurs.

Question 17: Are we permitted to enter into contracts as part of the project we are proposing?

Answer: Yes, as long as the costs are allowable as defined under the Code of Federal Regulations 40 Part 30 and Part 31, which can be found at www.epa.gov/ogd/grants.htm.

Dated: August 24, 2001.
Jeffrey R. Holmstead,
Assistant Administrator, Office of Air and Radiation.

[FR Doc. 01-22126 Filed 8-31-01; 8:45 am]

BILLING CODE 6560-50-P